DEPARTMENT OF ENERGY

Federal Energy Regulatory Commission

[Docket Nos. CP01-384-000, and CP01-387-000]

Islander East Pipeline Company, L.L.C., Algonquin Gas Transmission Company; Notice of Intent To Prepare an Environmental Assessment for the Proposed Islander East Pipeline Project and Request for Comments on Environmental Issues

July 3, 2001.

The staff of the Federal Energy Regulatory Commission (FERC or Commission) will prepare an environmental assessment (EA) that will discuss the environmental impacts of the Islander East Pipeline Project involving construction and operation of facilities by Islander East Pipeline Company, L.L.C. (Islander East) and related facilities constructed and operated by Algonquin Gas Transmission Company (Algonquin) in New Haven County, Connecticut and Suffolk County, New York.¹ Islander East's facilities would consist of about 44.8 miles of 24-inch-diameter pipeline, including 22.6 miles offshore in Long Island Sound; 5.6 miles of new 24-inch-diameter lateral; and three new meter stations. In addition, Algonquin would retest and uprate about 27.4 miles of its C-1 and C-1L pipelines, and construct a new 10,310 horsepower (hp) compressor station in New Haven County, Connecticut. This begins a scoping process and the comments received in response to this notice will be used to identify significant environmental issues including whether there is a need to prepare an environmental impact statement (EIS) rather than an EA. The EA (or EIS) will be used by the Commission in its decision-making process to determine whether the project is in the public convenience and necessity.

¹ Islander East and Algonquin's applications were filed with the Commission under Section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Islander East and Algonquin provided to landowners. This fact sheet addresses a number of typically asked questions, including the use of eminent domain and how to participate in the Commission's proceedings. It is available for viewing on the FERC Internet website (www.ferc.gov).

Summary of the Proposed Project

Islander East wants to expand the capacity of its facilities in Connecticut and New York to transport an additional 285,000 dekatherms per day of natural gas to one local distribution company and two proposed power plants. Islander East seeks authority to construct and operate:

• 21.2 miles of 24-inch-diameter pipeline in New Haven County, Connecticut, including 11.0 miles offshore in Long Island Sound;

• 23.6 miles of 24-inch-diameter pipeline in Suffolk County, New York, including 11.6 miles offshore in Long Island Sound;

• 5.6 miles of 24-inch-diameter pipeline from Calverton Lateral to a proposed power plant in Suffolk County, New York;

• a new Islander East/North Haven meter station within or adjacent to Algonquin's existing North Haven meter station in New Haven County, Connecticut;

• a new KeySpan Energy Delivery & ANP Brookhaven meter station in Suffolk County, New York;

• a new AES Calverton meter station in Suffolk County, New York; and

• five new mainline valves in New Haven County, Connecticut and Suffolk County, New York.

In addition, Algonquin plans to:

• retest and uprate about 27.4 miles of the C-1 and C-1L pipeline systems (13.7 miles each) from their current maximum allowable operating pressures of 750 pounds per square inch (psig) to 814 psig;

• investigate, inspect, and repair as needed about 25 feet of anomalies identified on the 10-inch-diameter C-1 line at about milepost (MP) 3.8 in New Haven County, Connecticut;

• construct a new 10,310 hp gas turbine-powered Cheshire Compressor Station and associated aboveground piping, launchers, and buildings in New Haven County, Connecticut; and

• relocate two in-line tool launchers from an aboveground facility at about MP 0.6 in New Haven County, Connecticut to the new Cheshire Compressor Station.

The location of the project facilities is shown in appendix 1.²

² The appendices referenced in this notice are not being printed in the Federal Register. Copies are available on the Commission's website at the “RIMS” link or from the Commission's Public Reference and Files Maintencance Branch, 888 First Street, N.E., Washington, D.C. 20426, or call (202) 208-1371. For instructions on connecting to RIMS refer to the last page of this notice. Copies of the appendices were sent to all those receiving this notice in the mail.

Land Requirements for Construction

Islander East proposes to use a 75-foot-wide right-of-way to construct its pipeline; 50 feet would be maintained as permanent right-of-way. About 86 percent of the 27.8 miles of onshore construction would be within or adjacent to existing rights-of-way.

Construction of the proposed facilities would disturb about 536.0 acres. Following construction, about 9.5 acres would be maintained as new aboveground facility sites. The remaining 208.9 acres would be restored and allowed to revert to its former use.

The EA Process

The National Environmental Policy Act (NEPA) requires the Commission to take into account the environmental impacts that could result from an action whenever it considers the issuance of a Certificate of Public Convenience and Necessity. NEPA also requires us ³ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• geology and soils

• water resources, fisheries, and wetlands

• vegetation and wildlife

• endangered and threatened species

• public safety

• land use

• cultural resources

• air quality and noise

• hazardous waste

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 5.

Currently Identified Environmental Issues

We have already identified several issues that we think deserve attention based on a preliminary review of the proposed facilities and the environmental information provided by Islander East and Algonquin. This preliminary list of issues may be changed based on your comments and our analysis.

• A total of 22.6 miles of Long Island Sound would be crossed, including potential essential fish habitat (EFH).

• Forty-two residences would be located within 50 feet of the construction work area.

• A total of 133.8 acres of pine barrens would be disturbed, with 82.0 acres retained as permanent right-of-way.

• A total of 10 perennial and 4 intermittent waterbodies would be crossed, including two state scenic rivers.

• About 12.9 acres of wetlands would be disturbed during construction, with about 3.8 acres maintained as permanent right-of-way.

Also, we have made a preliminary decision to not address the impacts of the nonjurisdictional facilities. These facilities include the proposed Brookhaven Energy Project power plant in Brookhaven, New York; the AES Long Island power plant located at the former Calverton Naval Reserve Facility on Long Island; and the local distribution company, KeySpan Energy Delivery Long Island. We will briefly describe their location and status in the EA.

Public Participation

You can make a difference by providing us with your specific comments or concerns about the project. By becoming a commentor, your concerns will be addressed in the EA/EIS and considered by the Commission. You should focus on the potential environmental effects of the proposal, alternatives to the proposal (including alternative routes and sites), and measures to avoid or lessen environmental impact. The more specific your comments, the more useful they will be. Please carefully follow these instructions to ensure that your comments are received in time and properly recorded:

• Send an original and two copies of your letter to: David P. Boergers, Secretary, Federal Energy Regulatory Commission, 888 First St., NE., Room 1A, Washington, DC 20426.

• Label one copy of the comments for the attention of Gas 2.

• Reference Docket No. CP01-384-000.

• Mail your comments so that they will be received in Washington, DC on or before August 3, 2001.

Comments may also be filed electronically via the Internet in lieu of paper. See 18 CFR 385.2001(a)(1)(iii) and the instructions on the Commission's web site at http://www.ferc.gov under the “e-Filing” link and the link to the User's Guide. Before you can file comments you will need to create an account which can be created by clicking on “Login to File” and then “New User Account.”

If you do not want to send comments at this time but still want to remain on our mailing list, please return the Information Request (appendix 3). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 or on the FERC website (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-17181 Filed 7-9-01; 8:45 am]

BILLING CODE 6717-01-P